Title 3—

The President

Proclamation 9543 of November 14, 2016

America Recycles Day, 2016

By the President of the United States of America

A Proclamation

Having only one planet and limited natural resources, it is imperative we reduce our environmental impact—particularly when it comes to waste. More than half of everything we throw away gets permanently discarded, packing landfills across our country with trash that can take centuries to decompose and provides no utility. Today, we resolve to raise awareness of the important role that reducing, reusing, and recycling can play in achieving a more sustainable future.

Recycling is a process that allows materials that would otherwise be thrown out to be manufactured into new materials that can be used again. By decreasing landfill waste and conserving important natural resources, recycling can mitigate pollution, save energy, and reduce greenhouse gas emissions. Many items such as paper, plastics, and batteries are commonly known to be recyclable, but many other products—including oil and tires—can also be recycled. In addition to helping reduce our environmental footprint, recycling also strengthens our economy and creates hundreds of thousands of green jobs. To learn more about what can be recycled and ways to encourage recycling in your community, visit www.EPA.gov/Recycle.

People of all ages can do their part by reducing waste and reusing items. In our homes we can compost food and yard waste rather than sending it to a landfill; in schools we can utilize reusable containers for storing lunches and school supplies; and in workplaces we can print more documents double-sided and on recycled paper, or opt for digital copies rather than printing in the first place. The Federal Government is doing our part to lead by example—from helping businesses purchase recycled materials to assisting grocery stores, schools, and stadiums with reducing their food waste, we are striving to give businesses, States, and local governments the resources they need to encourage recycling across our Nation.

One of the most important things we can do with our time on Earth is to make it better for future generations. On America Recycles Day, we renew our commitment to making environmentally conscious changes in our lives so that our children and grandchildren can live that better, cleaner future. Let us continue striving to reduce waste, conserve resources, and meet our obligations to our planet and to future generations.

NOW, THEREFORE, I, BARACK OBAMA, President of the United States of America, by virtue of the authority vested in me by the Constitution and the laws of the United States, do hereby proclaim November 15, 2016, as America Recycles Day. I call upon the people of the United States to observe this day with appropriate programs and activities, and I encourage all Americans to continue their reducing, reusing, and recycling efforts throughout the year.

IN WITNESS WHEREOF, I have hereunto set my hand this fourteenth day of November, in the year of our Lord two thousand sixteen, and of the Independence of the United States of America the two hundred and forty-first.

[FR Doc. 2016-27916

Filed 11-16-16; 11:15 am]

Billing code 3295-F7-P